DEPARTMENT OF LABOR

Employment and Training Administration

[TA-W-62,850]

Magnesium Aluminum Corporation Including On-Site Leased Workers From Alliance Staffing Solutions and Staff, Inc., Cleveland, OH; Amended Certification Regarding Eligibility to Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on April 4, 2008, applicable to workers of Magnesium Aluminum Corporation, including on-site leased workers from Alliance Staffing Solutions, Cleveland, Ohio. The notice was published in the Federal Register on April 17, 2008 (73 FR 20954).

At the request of the State agency, the Department reviewed the certification for workers of the subject firm. The workers are engaged in the production of aluminum and magnesium castings for the automotive industry.

New information shows that a leased worker of Staff, Inc. was employed on-site at the Cleveland, Ohio, location of Magnesium Aluminum Corporation. The Department has determined that this worker was sufficiently under the control of the subject firm.

Based on these findings, the Department is amending this certification to include a leased worker of Staff, Inc. working on-site at the Cleveland, Ohio, location of the subject firm.

The intent of the Department's certification is to include all workers employed at Magnesium Aluminum Corporation who were adversely affected by a shift in production of aluminum and magnesium castings to Mexico.

The amended notice applicable to TA-W-62,850 is hereby issued as follows:

All workers of Magnesium Aluminum Corporation, including on-site leased workers from Alliance Staffing Solutions and Staff, Inc., Cleveland, Ohio, who became totally or partially separated from employment on or after February 13, 2007, through April 4, 2010, are eligible to apply for adjustment assistance under section 223 of the Trade Act of 1974, and are also eligible to apply for alternative trade adjustment assistance under Section 246 of the Trade Act of 1974.

Signed at Washington, DC this 12th day of May 2008.
Elliott S. Kushner,
Certifying Officer, Division of Trade Adjustment Assistance.

[FR Doc. E8-11370 Filed 5-21-08; 8:45 am]

BILLING CODE 4510-FN-P